DEPARTMENT OF THE INTERIOR

Minerals Management Service

Outer Continental Shelf (OCS) Civil/Criminal Penalties

AGENCY: Minerals Management Service (MMS), Interior.

ACTION: Notice summarizing OCS civil penalties paid, January 1, 2001, through December 31, 2001.

SUMMARY: This notice provides a listing of civil penalties paid January 1, 2001, through December 31, 2001, for violations of the OCS Lands Act. The purpose of publishing the penalties summary is to provide information to the public on violations of special concern in OCS operations and to provide an additional incentive for safe and environmentally sound operations.

FOR FURTHER INFORMATION CONTACT: Doug Slitor (Program Coordinator), Performance and Safety Branch, Engineering and Operations Division, (703) 787-1030.

SUPPLEMENTARY INFORMATION: The Oil Pollution Act of 1990 (OPA 90) strengthened section 24 of the OCS Lands Act Amendments of 1978. Subtitle B of OPA 90, titled “Penalties,” increased the amount of the civil penalty from a maximum of $10,000 to a maximum of $20,000 per violation for each day of noncompliance. More importantly, in cases where a failure to comply with applicable regulations constitutes or constituted a threat of serious, irreparable, or immediate harm or damage to life (including fish and other aquatic life); property; any mineral deposit; or the marine, coastal, or human environment; OPA 90 provided the Secretary of the Interior (Secretary) with the authority to assess a civil penalty without regard to the requirement of expiration of a period of time allowed for corrective action.

In addition, the provisions of OPA 90 require the Secretary to adjust the maximum civil penalty to reflect any increases in the Consumer Price Index. Current regulations at 30 CFR 250.1403 specify the maximum civil penalty of $25,000 per day, per violation.

Between August 18, 1990, and January 2002, MMS initiated 396 civil penalty reviews. MMS assessed 291 civil penalties and collected $8,218,542 in fines. During this time period, 56 cases were dismissed, 4 cases were merged, and 46 are under review.

On September 1, 1997, the Associate Director of Offshore Minerals Management issued a notice informing lessees and operators of Federal oil, gas, and sulphur leases on the OCS that MMS will annually publish a summary of OCS civil penalties paid. The annual summary will highlight the identity of the party, the regulation violated, and the amount paid. The following table provides a listing of the penalties paid between January 1, 2001, and December 31, 2001. A quarterly update of the list is posted on the MMS worldwide web home page, http://www.mms.gov.

OCS Civil/Criminal Penalties Program

The goal of the MMS OCS Civil/Criminal Penalties Program is to ensure safe and clean operations on the OCS. Through the pursuit, assessment, and collection of civil penalties and referrals for the consideration of criminal penalties, the program is designed to encourage compliance with OCS statutes and regulations.

The following acronyms are used in this table.

ESD (emergency shutdown device);

INC (incident of non-compliance);

LACT (liquid automatic custody transfer);

LSH (level safety high);

LSL (level safety low);

NON (notice of non-compliance);

PSL (pressure safety low);

PSHL (pressure safety high/low);

PSV (pressure safety valve);

SCSSV (surface controlled subsurface safety valve);

SSV (subsurface valve).

Cited regulations are accurate as of the date of the infraction. Where applicable, subsequent renumbered regulatory citations are also shown in brackets.

2001 Civil/Criminal Penalties Summary Paid in Calendar Year 2001
Operator name and Case No. | Violation and date(s) | Penalty paid and date paid | Regulation(s) violated (30 CFR)
BP Exploration & Oil Inc., G-2000-029 | Unsafe operations were conducted during the slip and cut of the drill line, and an employee was seriously injured 3/16/00-3/16/00 | $20,000 2/14/01 | 250.107(a)
Santa Fe Snyder Corporation; G-2000-031 | A derrickhand who was allowed to remain in the derrick during a pressure test of a Kelly hose was seriously injured when the hose burst 3/4/00-3/4/00 | $24,000 1/30/01 | 250.107
Millennium Offshore Group, Inc.; G-2000-035 | Seven violations involving the bypass of the following: (1) SCSSV on Well A-3, (2) PSL LACT Charge Pump #1, (3) PSL LACT Charge Pump #2, (4) PSL on the Pipeline Pump #1, (5) PSL on the Pipeline Pump #2, (6) LSL on the Dry Oil Tank, and (7) LSL on the Wet Oil Tank 5/17/00-5/22/00 5/21/00-5/22/00 | $54,000 8/15/01 | 250.803(c)(1) 250.803(c)(1)
Amoco Production Company; G-2000-036 | The lift capacity for the platform crane was exceeded causing personnel injury and property damage 1/26/00-1/26/00 | $23,000 1/13/01 | 250.120(c)
PANACO, INC.; G-2000-037 | No annual crane inspection for 1998 and 1999. Gas detection system not tested within required timeframe. SCSSV in Well No. A-5L exceeded 12-month-test requirement. Records indicate that SSV's for Wells Nos. A-4L and A-4U were leaking since 10/29/99; valves not immediately repaired or replaced. Since 8/95, unable to test SCSSV in Well No. A-4L due to communication between tubing and production casing above and below valve. Failure to correct missing skirting on heliport; originally cited on 10/14/98 01/01/96-03/17/00 06/02/98-07/09/98 11/11/94-03/14/00 12/12/99-03/16/00 10/14/98-03/14/00 02/26/00-03/16/00 | $525,200 6/7/01 | 250.20(c) {250.120(c)} 250.124(a)(1)(ii) {250.804(a)(1)(ii)} 250.87(c) {250.517(c)} 250.804(a)(4) 250.120(a) {250.800} 250.804(a)(8)
Energy Resource Technology, Inc.; G-2000-039 | The Gas Detection System was not tested for one required quarterly test and one sensor failed when inspected 1/11/00-2/3/00 | $12,000 10/30/01 | 250.804(a)(8)
Forcenergy Inc.; G-2000-041 | PSHL on flowline for Well No. A-5 was bypassed 3/23/00-3/23/00 | $18,000 4/30/01 | 250.803(c)(1)
Equitable Production Company; G-2000-042 | Tubing plugs in Wells Nos. C-5D and C-6 found leaking on January 31, 1999. Not repaired until May 16, 2000 1/31/99-5/16/00 | $283,200 5/1/01 | 250.804(a)(1)(iii)
ATP Oil & Gas Corporation; G-2000-043 | Heater treater fire tube stack not insulated. Fire occurred on platform from sprayed condensate onto the heater treater fire tube stack 5/2/00-5/2/00 | $15,000 2/13/01 | 250.803(b)(5)(i)
Apache Corporation; G-2000-046 | PSV on the compressor fuel gas filter was blocked out of service 7/16/00-7/25/00 | $20,000 1/12/01 | 250.803(c)(1)
Shell Offshore Inc.; G-2000-048 | SCSSV for well JN-1U was bypassed 2/21/00-2/21/00 | $10,000 5/25/01 | 250.803(c)(1)
Energy Resource Technology, Inc.; G-2000-049 | Tubing plugs for 15 wells last tested for leakage Sept 1999. Should be checked every 6 months; missed one leakage test per well 3/2/00-5/09/00 3/2/00-5/10/00 | $45,000 5/17/01 | 250.804(a)(1)(iii) 250.804(a)(1)(iii)
Union Oil Company of California; G-2000-051 | Did not conduct an annual crane inspection 10/19/99-8/25/00 | $10,000 11/29/01 | 250.120(c) {250.800}
Energy Resource Technology, Inc.; G-2000-052 | Pollution resulted from an improperly maintained skim pile 4/11/00-4/11/00 | $20,000 4/26/01 | 250.300(b)(4)
W & T Offshore, Inc.; G-2000-053 | Glycol safety system relay pinned out of service; PSL bypassed on the pipeline; LSH inoperable on sump pile 8/09/00-8/09/00 7/27/00-7/27/00 | $36,000 3/26/01 | 250.803(c)(1) 250.803(c)(1)
Barrett Resources Corporation; G-2000-054 | 13 well's SCSSV's not being tested in the required 6 month interval 2/11/00-7/26/00 2/11/00-7/26/00 2/13/00-7/26/00 2/13/00-7/26/00 2/13/00-7/26/00 2/20/00-7/26/00 | $67,000 9/18/01 | 250.804(a)(1)(iii) 250.804(a)(1)(iii) 250.804(a)(1)(i) 250.804(a)(1)(iii) 250.804(a)(1)(i) 250.804(a)(1)(i)
Freeport-McMoRan Sulphur LLC; G-2000-055 | A sulphur fire occurred from welding operations 6/8/00-6/8/00 | $17,500 5/5/01 | 250.107(a)
Chevron U.S.A. Inc.; G-2000-057 | The firewater system was inoperable for 81 days 7/10/00-9/28/00 | $810,000 6/28/01 | 250.803(b)(8)
Elf Exploration, Inc.; G-2000-058 | PSV on the glycol filter was improperly maintained including a broken valve stem on the isolation valve. The glycol master panel was bypassed on 8/2/2000. The PSV on the glycol contractor was bypassed on 8/7 & 8/2000. The SCSSV for Well A-1 was not tested within the required timeframe (two 6-month tests were missed) 8/2/00-8/2/00 6/3/99-8/2/00 8/7/00-8/8/00 8/8/00-8/8/00 | $33,000 10/19/01 | 250.803(c)(1) 250.804(a)(1)(i) 250.803(c)(1) 250.107
Apache Corporation; G-2000-060 | The SCSSV in Well A-6 was tested on April 9, 2000, and found to be leaking greater than the allowable leakage rate. For 3 days the SCSSV was not removed, repaired and reinstalled, or replaced; it was not monitored during this time either 4/9/00-4/11/00 | $21,000 8/16/01 | 250.804(a)(1)(i)
Coastal Oil & Gas Corporation; G-2001-001 | Two fires occurred on the same day and unsafe and unworkmanlike operations were conducted in both instances. For both fires, hot work operations were conducted in close proximity of the dry oil tank even though there was prior knowledge of gas escaping from valves on top of the tank 8/16/00-8/16/00 8/16/00-8/16/00 | $37,000 8/16/01 | 250.107(a) 250.107(a)
Apache Corporation; G-2001-002 | A flash fire occurred when the operator did not properly protect equipment containing hydrocarbons (that was within 35 feet horizontally from the welding area) from slag and sparks 10/24/00-10/24/00 | $15,000 11/6/01 | 250.113(a)
Elf Exploration, Inc.; G-2001-003 | Overflow of oil from the bad oil tank and containment system resulted in a flash fire causing serious damage to equipment on platform and the release of oil into the Gulf of Mexico 8/9/00-8/9/00 8/9/00-8/9/00 | $45,000 10/19/01 | 250.300(a) 250.107(a)
Pogo Producing Company; G-2001-007 | Bypassed ESD at boat landing 5/26/00-5/26/00 | $5,000 7/24/01 | 250.803(c)(1)
Coastal Oil & Gas Corporation; G-2001-008 | Fuel gas scrubber PSHL was in bypass position on production main panel; not flagged nor monitored 1/14/01-1/14/01 | $7.500 8/17/01 | 250.803(c)(1)
Burlington Resources Offshore Inc.; G-2001-011 | PSV for 2nd stage compressor discharge set out of range 11/13/00-1/5/01 | $27,000 8/15/01 | 250.804(a)(2)
Apache Corporation; G-2001-012 | Drilling operations continued as the air supply line to gas detector used to monitor drilling mud returns was turned off rendering the detector inoperable 2/9/01-2/9/01 | $14,000 10/31/01 | 250.410(c)(2)(iv)
El Paso Production GOM Inc.; G-2001-014 | One semi-annual test period missed on an SCSSV 12/1/00-1/5/01 | $15,000 12/11/01 | 250.804(a)(1)(i)
Shell Offshore, Inc.; G-2001-023 | A pollution event occurred as a result of pumps and LSHs on the Dry Oil Tank and Emergency Sump not operating correctly 3/20/01-3/20/01 | $20,000 12/20/01 | 250.300(a)
RME Petroleum Company; G-2001-033 | The gas detection system in the mud pit room was inoperable for 3 days 4/21/01-4/23/01 | $52,500 12/28/01 | 250.410(e)(3)
Aera Energy LLC; P-1999-001 | Failure to properly maintain pipeline, resulting in a pollution event 6/7/99 | $25,000 5/4/01 | 250.300(a)
Chevron U.S.A. Inc.; P-1999-002 | Failure to replace compromised piping in a timely manner or remove it from service resulted in piping failure and release of 32,000 cf gas with 18,000 ppm H2S, causing damage to facility and placing platform and lives of all personnel on platform in substantial danger 7/21/99-8/3/99; 8/3/99 | $350,000 06/29/01 | 250.120(a) {250.800}
Total Penalties Paid: 1/1/01-12/31/01
32 Cases: $2,724,900

Dated: March 27, 2002.
Paul E. Martin,
Acting Chief, Engineering and Operations Division.

[FR Doc. 02-8846 Filed 4-11-02; 8:45 am]

BILLING CODE 4310-MR-P